DEPARTMENT OF COMMERCE

International Trade Administration

[Application No. 84-31A12]

Export Trade Certificate of Review

ACTION: Notice of Issuance of an amended Export Trade Certificate of Review to Northwest Fruit Exporters (“NFE”), Application No. 84-31A12.

SUMMARY: The Secretary of Commerce, through the Office of Trade and Economic Analysis (“OTEA”), issued an amended Export Trade Certificate of Review (“Certificate”) to NFE on October 6, 2020.

FOR FURTHER INFORMATION CONTACT: Joseph Flynn, Director, OTEA, International Trade Administration, by telephone at (202) 482-5131 (this is not a toll-free number) or email at etca@trade.gov.

SUPPLEMENTARY INFORMATION: Title III of the Export Trading Company Act of 1982 (15 U.S.C. Sections 4001-21) (“the Act”) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Certified Content

NFE's Certificate was amended as follows:

1. Added the following company as a new Member of the Certificate within the meaning of section 325.2(l) of the Regulations (15 CFR 325.2(l)) for the following Export Product: Fresh sweet cherries:

• Griggs Farms Packing, LLC, Orondo, WA

2. Deleted the following companies as Members of the Certificate:

• Peshastin Hi-Up Growers, Peshastin, WA

• Strand Apples, Inc., Cowiche, WA

3. Changed the Export Product coverage for one Member:

• Stemilt Growers, LLC changed Export Product coverage from fresh sweet cherries, fresh apples, and fresh pears to fresh sweet cherries and fresh apples (dropping fresh pears).

4. Modified the Certificate language under Paragraph 2 of the Export Trade Activities and Methods of Operation to read as follows:

“With respect to fresh sweet cherries only, NFE may on behalf of and with the advice of its Members negotiate export prices and quantities and allocate export quotas among growing regions and its Members, in connection with actual or potential bona fide export opportunities. In allocating export quotas among growing regions and its Members, NFE, through employees or agents of NFE who are not also employees of a Member, may receive, and each Member may supply to such employees or agents of NFE, information as to such Member's actual total export shipments of fresh sweet cherries in any previous growing season or seasons, provided that such information is not disclosed by NFE to any other Member. All communications made on behalf of NFE to its Members relating to the allocation of quotas shall be made by an NFE employee or agent who is not also an employee of a Member, and neither the NFE employee/agent or any employee of a Member shall disclose to any other Member the quota allocation of that Member or any other Member.”

NFE's Amended Certificate Membership Is as Follows

1. Allan Bros., Naches, WA

2. AltaFresh L.L.C. dba Chelan Fresh Marketing, Chelan, WA

3. Apple House Warehouse & Storage, Inc., Brewster, WA

4. Apple King, L.L.C., Yakima, WA

5. Auvil Fruit Co., Inc., Orondo, WA

6. Baker Produce, Inc., Kennewick, WA

7. Blue Bird, Inc., Peshastin, WA

8. Blue Star Growers, Inc., Cashmere, WA

9. Borton & Sons, Inc., Yakima, WA

10. Brewster Heights Packing & Orchards, LP, Brewster, WA

11. Chelan Fruit Cooperative, Chelan, WA

12. Chiawana, Inc. dba Columbia Reach Pack, Yakima, WA

13. CMI Orchards LLC, Wenatchee, WA

14. Columbia Fruit Packers, Inc., Wenatchee, WA

15. Columbia Valley Fruit, L.L.C., Yakima, WA

16. Congdon Packing Co. L.L.C., Yakima, WA

17. Conrad & Adams Fruit L.L.C., Grandview, WA

18. Cowiche Growers, Inc., Cowiche, WA

19. CPC International Apple Company, Tieton, WA

20. Crane & Crane, Inc., Brewster, WA

21. Custom Apple Packers, Inc., Quincy, and Wenatchee, WA

22. Diamond Fruit Growers, Inc., Odell, OR

23. Domex Superfresh Growers LLC, Yakima, WA

24. Douglas Fruit Company, Inc., Pasco, WA

25. Dovex Export Company, Wenatchee, WA

26. Duckwall Fruit, Odell, OR

27. E. Brown & Sons, Inc., Milton-Freewater, OR

28. Evans Fruit Co., Inc., Yakima, WA

29. E.W. Brandt & Sons, Inc., Parker, WA

30. FirstFruits Farms, LLC, Prescott, WA

31. Frosty Packing Co., LLC, Yakima, WA

32. G&G Orchards, Inc., Yakima, WA

33. Gilbert Orchards, Inc., Yakima, WA

34. Griggs Farms Packing, LLC, Orondo, WA

35. Hansen Fruit & Cold Storage Co., Inc., Yakima, WA

36. Henggeler Packing Co., Inc., Fruitland, ID

37. Highland Fruit Growers, Inc., Yakima, WA

38. HoneyBear Growers LLC, Brewster, WA

39. Honey Bear Tree Fruit Co LLC, Wenatchee, WA

40. Hood River Cherry Company, Hood River, OR

41. JackAss Mt. Ranch, Pasco, WA

42. Jenks Bros Cold Storage & Packing, Royal City, WA

43. Kershaw Fruit & Cold Storage, Co., Yakima, WA

44. L & M Companies, Union Gap, WA

45. Legacy Fruit Packers LLC, Wapato, WA

46. Manson Growers Cooperative, Manson, WA

47. Matson Fruit Company, Selah, WA

48. McDougall & Sons, Inc., Wenatchee, WA

49. Monson Fruit Co., Selah, WA

50. Morgan's of Washington dba Double Diamond Fruit, Quincy, WA

51. Naumes, Inc., Medford, OR

52. Northern Fruit Company, Inc., Wenatchee, WA

53. Olympic Fruit Co., Moxee, WA

54. Oneonta Trading Corp., Wenatchee, WA

55. Orchard View Farms, Inc., The Dalles, OR

56. Pacific Coast Cherry Packers, LLC, Yakima, WA

57. Piepel Premium Fruit Packing LLC, East Wenatchee, WA

58. Pine Canyon Growers LLC, Orondo, WA

59. Polehn Farms, Inc., The Dalles, OR

60. Price Cold Storage & Packing Co., Inc., Yakima, WA

61. Pride Packing Company LLC, Wapato, WA

62. Quincy Fresh Fruit Co., Quincy, WA

63. Rainier Fruit Company, Selah, WA

64. Roche Fruit, Ltd., Yakima, WA

65. Sage Fruit Company, L.L.C., Yakima, WA

66. Smith & Nelson, Inc., Tonasket, WA

67. Stadelman Fruit, L.L.C., Milton-Freewater, OR, and Zillah, WA

68. Stemilt Growers, LLC, Wenatchee, WA

69. Symms Fruit Ranch, Inc., Caldwell, ID

70. The Dalles Fruit Company, LLC, Dallesport, WA

71. Underwood Fruit & Warehouse Co., Bingen, WA

72. Valicoff Fruit Company Inc., Wapato, WA

73. Washington Cherry Growers, Peshastin, WA

74. Washington Fruit & Produce Co., Yakima, WA

75. Western Sweet Cherry Group, LLC, Yakima, WA

76. Whitby Farms, Inc. dba: Farm Boy Fruit Snacks LLC, Mesa, WA

77. WP Packing LLC, Wapato, WA

78. Yakima Fresh, Yakima, WA

79. Yakima Fruit & Cold Storage Co., Yakima, WA

80. Zirkle Fruit Company, Selah, WA

The effective date of the amendment is July 8, 2020, the date on which NFE's application to amend was deemed submitted.

Dated: October 16, 2020.
Joseph Flynn,
Director, Office of Trade and Economic Analysis, International Trade Administration, U.S. Department of Commerce.

[FR Doc. 2020-23293 Filed 10-20-20; 8:45 am]

BILLING CODE 3510-DR-P